DEPARTMENT OF JUSTICE

[AAG/A Order No. 283-2002]

Privacy Act of 1974; System of Records

Pursuant to the provisions of the Privacy Act of 1974 (5 U.S.C. § 552a), notice is given that the Office of Justice Programs (OJP), Department of Justice proposes to establish a new system of records for maintaining general information on individuals who are killed or injured in acts of international terrorism. The system of records is entitled “Victims of International Terrorism Compensation and Assistance Program (OJP-014).” The primary purpose for establishing the system of records is to provide compensation and assistance to victims of international terrorism and to enable the Department to track other forms of information and assistance provided to international terrorism victims by the Office for Victims of Crime (OVC). OVC is directed to pay compensation to international terrorism victims by provisions contained in the Victims of Trafficking and Violence Protection Act of 2000 (Pub. L. 106-386, Div C, § 2003(c)(1), 114 Stat. 1464,1544), which amended the Victims of Crime Act (“VOCA”) (42 U.S.C. 10601 et seq.). The term “victim” means “a person who—(i) suffered direct physical or emotional injury or death as a result of international terrorism occurring on or about December 21, 1988 with respect to which an investigation or prosecution was ongoing after April 24, 1996; and (ii) as of the date on which the international terrorism occurred, was a national of the United States or an officer or employee of the United States government.” [42 U.S.C. 10603c(3)(A) (i) and (ii)].

The Department proposes to establish the system to reflect the broad scope of compensation and assistance provided to victims of terrorism, including but not limited to assistance with emergency travel, shipment of victim remains and belongings, medical expenses, mental health counseling, travel for criminal justice proceedings, and notification of important case events and available resources.

Title 5 U.S.C. 552a(e) (4) and (11) provide that the public be given 30 days in which to comment on any proposed routine uses of information collected and maintained in the system of records. Any comments may be submitted in writing to Mary Cahill, Management and Planning Staff, Justice Management Division, Department of Justice, Washington, DC 20530 by October 4, 2002.

As required by 5 U.S.C. 552a(r) and Office of Management and Budget implementing regulations, the Department of Justice has provided a report on the establishment of this system of records to the Office of Management and Budget and the Congress.

A system description is set forth below.

Dated: August 23, 2002.
Robert F. Diegelman,
Acting Assistant Attorney General for Administration.

JUSTICE/OJP-014

System Name:

Victims of International Terrorism Compensation and Assistance Program.

System Location:

Records will be kept at the Office for Victims of Crime (OVC), Office of Justice Programs (OJP), 810 Seventh Street, NW., Washington, DC 20531, or at locations of authorized contractors. OVC will have access to any/all data base(s) established by an OVC contractor and the data base(s) will be maintained internally or placed on the OJP/OVC server.

Categories of Individuals Covered by the System:

Claimants seeking benefits under the program, individuals filing claims on behalf of claimants, and individuals referenced in claims or related documents.

Categories of Records in the System:

Records in the system include: Claim forms filed by or on behalf of claimants seeking benefits under the program; records from telephone contacts or inquiries; documents submitted in support of the claims; medical, personal, employment, financial, and other records obtained or generated to process claims.

Authority for Maintenance of the System:

Authority for maintaining this system exists under the Victims of Crime Act (“VOCA”), 42 U.S.C. 10601 et seq.; § 10604 (Administrative provisions).

Purpose of Records Maintained in the System:

Information contained in this system may be used to determine and record eligibility of claimants under the Victims of Crime Act, as amended, and any compensation or assistance provided under the Act, and to track claim status. For individuals who are eligible, see 42 U.S.C. 10603c(3)(A): The term “victim” means “a person who—(i) suffered direct physical or emotional injury or death as a result of international terrorism occurring on or after December 21, 1988 with respect to which an investigation or prosecution was ongoing after April 24, 1996; and (ii) as of the date on which the international terrorism occurred, was a national of the United States or an officer or employee of the United States Government.” [42 U.S.C. 10603c(3)(A) (i) and (ii)].

Routine Uses of Records Maintained in the System, Including Categories of Users and the Purposes of Such Uses:

Records, or any information derived therefrom, may be disclosed as follows:

A. To appropriate Federal, State and local agencies to coordinate benefits paid under similar programs;

B. To Federal, State and local agencies to verify and certify eligibility for benefits;

C. In a proceeding before a court, grand jury, or administrative or regulatory body when the records are determined by the Department of Justice to be arguably relevant to the proceeding;

D. To the National Archives and Records Administration (NARA) and to the General Services Administration in records management inspections conducted under the authority of 44 U.S.C. 2904 and 2906.

E. To a Member of Congress or staff acting upon the Member's behalf when the Member or staff requests the information on behalf of and at the request of the individual who is the subject of the record.

F. Limited information may be disclosed to relief organizations/agencies, as appropriate for acts of international terrorism.

G. To foreign compensation programs and/or foreign governments to coordinate payment of benefits and/or to ensure no duplication of payments.

H. To contractors, grantees, experts, consultants, students, and others performing or working on a contract, service, grant, cooperative agreement, or other assignment for the Federal Government, when necessary to accomplish an OJP function related to this system of records.

I. Where a record, either on its face or in conjunction with other information, indicates a violation or potential violation of law, to any civil or criminal law enforcement authority or other appropriate agency, whether Federal, State, local, foreign, or tribal, charged with the responsibility of investigating or prosecuting such a violation or enforcing or implementing a statute, rule, regulation, or order.

J. To a Federal, State, local, or tribal agency or entity that requires information relevant to a decision concerning the letting of a license or permit, the issuance of a grant or benefit, or other need for the information in performance of official duties.

K. To the White House (the President, Vice President, their staffs, and other entities of the Executive Office of the President (EOP)) for Executive Branch coordination of activities which relate to or have an effect upon the carrying out of the constitutional, statutory, or other official or ceremonial duties of the President.

L. To such recipients and under such circumstances and procedures as are mandated by Federal statute or treaty.

M. To the news media and the public pursuant to 28 CFR 50.2 unless it is determined that release of the specific information in the context of a particular case would constitute an unwarranted invasion of personal privacy.

Policies And Practices for Storing, Retrieving, Accessing, Retaining, and Disposing of Records in the System:

Storage:

Information in this system is maintained on a master index, in folders, and in an automated system.

Retrievability:

Data is retrieved by name and address of claimant, name and address of deceased or injured victim, by terrorism incident, by type of service provider/service rendered to victim, by nationality (Foreign Service National (FSN) vs. U.S. National), by social security number, by date of birth, and individual case file number.

Safeguards:

Computerized information is safeguarded and protected by computer password key and limited access. Electronic record retention is also protected by “firewalls.” Operational access to information maintained on a dedicated computer system, is controlled by levels of security provided by password keys to prevent unauthorized entry, and audit trail of accessed information. Access to manual files is limited to personnel who have a need for files to perform official duties and is safeguarded in locked file cabinets. All files are maintained in a secure building.

Retention and Disposal:

Files are retained on hard copy and on a computer database. All claim files and automated data pertaining to a claim are destroyed 10 years after the date the claim has been fully processed and/or payment made, as approved by the National Archives and Records Administration (NARA). Automated data is retained in its most current form only, however, and as information is updated, outdated information is deleted. A schedule is pending approval with NARA.

System Manager(s) and Address:

Terrorism and International Victims Unit, Office for Victims of Crime, Office of Justice Programs, 810 7th Street, NW, Washington, DC, 20531.

Notification Procedure:

Inquiries concerning this system should be addressed to the system manager listed above c/o FOI/PA Personnel.

Record Access Procedures:

Request for access to a record from this system shall be made in writing with the envelope and the letter clearly marked “Freedom of Information/Privacy Act Request”. The request should include a general description of the records sought and must include the requester's full name, current address, and date and place of birth. The request must be signed and either notarized or submitted under penalty of perjury.

Contesting Record Procedures:

Individuals desiring to contest or amend information maintained in the system should direct their request to the System Manager listed above, state clearly and concisely what information is being contested, the reason for contesting it, and the proposed amendment to the information sought.

Record Source Categories:

Public agencies including investigating agency, employing agency, beneficiaries, educational institutions, physicians, hospitals, official state and Federal documents.

Systems Exempted from Certain Provisions of the Act:

None.

[FR Doc. 02-22458 Filed 9-4-02; 8:45 am]

BILLING CODE 4410-18-P